DEPARTMENT OF TRANSPORTATION

Federal Aviation Administration

14 CFR Part 39

[Docket No. FAA-2011-1258; Directorate Identifier 2011-NM-184-AD]

RIN 2120-AA64

Airworthiness Directives; Learjet Inc. Model 60 Airplanes

AGENCY: Federal Aviation Administration (FAA), DOT.

ACTION: Notice of proposed rulemaking (NPRM).

SUMMARY: We propose to adopt a new airworthiness directive (AD) for certain Learjet Inc. Model 60 airplanes. This proposed AD was prompted by two incidents of swapped fire extinguishing wires. This proposed AD would require inspecting the electrical leads routed to the fire extinguishing containers for proper identification and missing labels, and to ensure the electrical leads are connected to the correct squibs; and corrective actions if necessary. We are proposing this AD to prevent the extinguishing agent of the fire extinguishing container from being delivered to the wrong engine in the event of an engine fire, and a consequent uncontrolled fire.

DATES: We must receive comments on this proposed AD by January 17, 2012.

ADDRESSES: You may send comments, using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Learjet, Inc., One Learjet Way, Wichita, Kansas 67209-2942; telephone (316) 946-2000; fax (316) 946-2220; email ac.ict@aero.bombardier.com; Internet http://www.bombardier.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: (800) 647-5527) is in the ADDRESSES section. Comments will be available in the AD docket shortly after receipt.

FOR FURTHER INFORMATION CONTACT: James Galstad, Aerospace Engineer, Mechanical Systems and Propulsion Branch, ACE-116W, FAA, Wichita Aircraft Certification Office, 1801 Airport Road, Room 100, Mid-Continent Airport, Wichita, Kansas 67209; phone: (316) 946-4135; fax: (316) 946-4107; email: james.galstad@faa.gov.

SUPPLEMENTARY INFORMATION:

Comments Invited

We invite you to send any written relevant data, views, or arguments about this proposal. Send your comments to an address listed under the ADDRESSES section. Include “Docket No. FAA-2011-1258; Directorate Identifier 2011-NM-184-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report of two incidents of swapped left and right fire extinguishing wires. Due to the locations of the forward and aft squibs of the fire extinguishing containers, it is possible to reverse the electrical wiring between the left and right squibs. Incorrect wire labeling and improper wiring of the squibs could cause the extinguishing agent of the fire extinguishing container to be delivered to the wrong engine in the event of an engine fire. This condition, if not corrected, could result in an uncontrolled fire.

Relevant Service Information

We reviewed Bombardier Service Bulletin 60-26-4, dated May 2, 2011. The service information describes procedures for inspecting the electrical leads routed to the fire extinguishing containers for proper identification and missing labels, and to ensure the electrical leads are connected to the correct squibs; and corrective actions if necessary. The corrective actions include correcting wiring labels with a permanent marker or replacing the labels with new heat shrink tubing or heat rated tape and identifying them properly, and correcting the wire routing.

FAA's Determination

We are proposing this AD because we evaluated all the relevant information and determined the unsafe condition described previously is likely to exist or develop in other products of the same type design.

Proposed AD Requirements

This proposed AD would require accomplishing the actions specified in the service information described previously.

Costs of Compliance

We estimate that this proposed AD affects 232 airplanes of U.S. registry.

We estimate the following costs to comply with this proposed AD:

Estimated Costs
Action | Labor cost | Parts cost | Cost per product | Cost on U.S. operators
Inspection | 3 work-hours × $85 per hour = $255 | 0 | $255 | $59,160

We estimate the following costs to do any necessary modification that would be required based on the results of the proposed inspection. We have no way of determining the number of aircraft that might need this modification:

On-Condition Costs
Action | Labor cost | Parts cost | Cost per product
Corrective actions | 1 work-hour × $85 per hour = $85 | $8 | $93

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Learjet Inc.: Docket No. FAA-2011-1258; Directorate Identifier 2011-NM-184-AD.

(a) Comments Due Date

We must receive comments by January 17, 2012.

(b) Affected ADs

None.

(c) Applicability

This AD applies to Learjet Inc. Model 60 airplanes, certificated in any category, serial numbers 60-002 through 60-366 inclusive.

(d) Subject

Joint Aircraft System Component (JASC)/Air Transport Association (ATA) of America Code 2620, Extinguishing system.

(e) Unsafe Condition

This AD was prompted by two incidents of swapped fire extinguishing wires, which could cause the extinguishing agent of the fire extinguishing container to be delivered to the wrong engine in the event of an engine fire, and a consequent uncontrolled fire. We are issuing this AD to correct the unsafe condition on these products.

(f) Compliance

Comply with this AD within the compliance times specified, unless already done.

(g) Inspection and Corrective Actions

Within 300 flight hours after the effective date of this AD, or at the next auxiliary power unit (APU) removal, whichever occurs first: Inspect the electrical leads routed to the fire extinguishing containers for proper identification and missing labels, and to ensure the electrical leads are connected to the correct squibs, as specified in Bombardier Service Bulletin 60-26-4, dated May 2, 2011. Do the inspection in accordance with paragraph 3., “Accomplishment Instructions,” of Bombardier Service Bulletin 60-26-4, dated May 2, 2011. If any misidentification is found, or if any label is missing, or if the electrical leads are not connected to the correct squibs, as specified in Bombardier Service Bulletin 60-26-4, dated May 2, 2011: Before further flight, do all applicable corrective actions, in accordance with paragraph 3., “Accomplishment Instructions,” of Bombardier Service Bulletin 60-26-4, dated May 2, 2011.

(h) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(i) Related Information

(1) For more information about this AD, contact James Galstad, Aerospace Engineer, Mechanical Systems and Propulsion Branch, ACE-116W, Wichita Aircraft Certification Office, FAA, 1801 Airport Road, Room 100, Mid-Continent Airport, Wichita, Kansas 67209; phone: (316) 946-4135; fax: (316) 946-4107; email: james.galstad@faa.gov.

(2) For service information identified in this AD, contact Learjet, Inc., One Learjet Way, Wichita, Kansas 67209-2942; telephone (316) 946-2000; fax (316) 946-2220; email ac.ict@aero.bombardier.com; Internet http://www.bombardier.com. You may review copies of the referenced service information at the FAA, Transport Airplane Directorate, 1601 Lind Avenue SW., Renton, Washington. For information on the availability of this material at the FAA, call (425) 227-1221.

Issued in Renton, Washington, on November 22, 2011.
Ali Bahrami,
Manager, Transport Airplane Directorate, Aircraft Certification Service.

[FR Doc. 2011-30822 Filed 11-29-11; 8:45 am]

BILLING CODE 4910-13-P